DEPARTMENT OF THE INTERIOR

Bureau of Land Management

[LLCOS0600-L12200000-DU0000]

Notice of Proposed Supplementary Rules for Travel Management on Public Lands in Gunnison, Montrose, Hinsdale, and Saguache Counties, CO.

AGENCY: Bureau of Land Management, Interior.

ACTION: Notice of Proposed Supplementary Rules.

SUMMARY: The Bureau of Land Management (BLM) Colorado is proposing supplementary rules for public lands included in the Gunnison Basin Federal Lands Travel Management Plan (TMP), approved on June 28, 2010. These proposed supplementary rules would apply to public lands administered by the BLM, Gunnison Field Office in Gunnison, Montrose, Hinsdale, and Saguache counties, Colorado. The proposed rules would implement decisions found in the TMP relating to the use of motorized and non-motorized vehicles.

DATES: You should submit your comments by July 8, 2013.

ADDRESSES: You may submit comments by the following methods: Mail or hand deliver to Kristi Murphy, Outdoor Recreation Planner, BLM Gunnison Field Office, 650 S. 11th Street, Gunnison, CO 81230. You may also submit comments via email to kmurphy@blm.gov (include “Proposed Supplementary Rules” in the subject line).

FOR FURTHER INFORMATION CONTACT: Kristi Murphy, Outdoor Recreation Planner, at BLM Gunnison Field Office, 650 S. 11th Street, Gunnison, Colorado 81230, or by phone at 970-642-4955. Persons who use a telecommunications device for the deaf (TDD) may call the Federal Information Relay Service (FIRS) at 800-877-8339 to contact the above individual during normal business hours. The FIRS is available 24 hours a day, 7 days a week, to leave a message or question with the above individual. You will receive a reply during normal business hours.

SUPPLEMENTARY INFORMATION:

I. Public Comment Procedures

Written comments on the proposed supplementary rules should be specific, be confined to issues pertinent to the proposed supplementary rules, and explain the reason for any recommended change. Where possible, comments should reference the specific section or paragraph of the proposed supplementary rules that the comment is addressing. The BLM is not obligated to consider or include in the Administrative Record for the final supplementary rules comments the BLM receives after the close of the comment period (see DATES), unless they are postmarked or electronically dated before the deadline, or comments delivered to an address other than one of the addresses listed above (see ADDRESSES).

Comments, including names, street addresses, and other contact information of respondents, will be available for public review at the address listed above, during regular business hours (7:30 a.m. to 4:30 p.m., Monday through Friday, except on Federal holidays). Before including your address, phone number, email address, or other personal identifying information in your comment, you should be aware that your entire comment—including your personal identifying information—may be made publicly available at any time. While you can ask us in your comment to withhold your personal identifying information from public review, we cannot guarantee that we will be able to do so.

II. Background

Before 2010, the BLM Gunnison Field Office used the BLM's 1980 Transportation Plan and the 2001 Gunnison Interim Travel Plan issued by the BLM and the U.S. Forest Service to manage travel on BLM-managed lands. As called for in the 2001 Travel Plan, the BLM and the Forest Service embarked on a planning process to develop a more definitive and comprehensive system of routes across Federal lands in the Gunnison Basin. The two agencies jointly published in the Federal Register a Notice of Intent to Prepare an Environmental Impact Statement at 72 FR 24267 (May 2, 2007). They subsequently published the Gunnison Basin Federal Lands Travel Management Plan (TMP) Environmental Impact Statement (EIS) (CO-160-2008-025-EIS). Following analysis of the public comments, the BLM issued a decision record on June 28, 2010. The TMP replaces the 1980 Transportation Plan and the 2001 Interim Travel Plan. These proposed supplementary rules would enable the BLM to implement several key decisions contained in the TMP to protect natural resources and provide for public health and safety. No other existing rules would be affected by these proposed supplementary rules.

III. Discussion of Proposed Supplementary Rules

These proposed supplementary rules apply to public lands administered by the BLM Gunnison Field Office. The TMP area consists of approximately 585,012 acres of public lands within Gunnison, Montrose, Hinsdale and Saguache counties, Colorado, in the following described townships:

Sixth Principal Meridian

Tps. 11 S., Rs. 83 and 84 W., unsurveyed.

Tps. 11 S., Rs. 86 and 87 W., partly unsurveyed.

Tps. 12 S., Rs. 82 to 87 W., partly unsurveyed.

Tps. 13 S., Rs. 80 to 87 W., partly unsurveyed.

Tps. 14 S., Rs. 80 to 88 W., partly unsurveyed.

Tps. 15 S., Rs. 81 to 88 W., partly unsurveyed.

New Mexico Principal Meridian

Tps. 43 N., Rs. 1 and 2 E., partly unsurveyed.

Tps. 44 N., Rs. 1, 2, and 3 E., partly unsurveyed.

Tps. 45 N., Rs. 1, 2, and 3 E., partly unsurveyed.

Tps. 46 N., Rs. 1 to 4 E., partly unsurveyed.

Tps. 47 N., Rs. 1 to 7 E., partly unsurveyed.

Tps. 48 N., Rs. 1 to 7 E.

Tps. 49 N., Rs. 1 to 6 E.

Tps. 50 N., Rs. 1 to 6 E.

Tps. 51 N., Rs. 1 to 5 E.

Tps. 41 N., Rs. 5 and 6 W., unsurveyed.

Tps. 42 N, Rs. 3 to 6 W., partly unsurveyed.

Tps. 43 N., Rs. 1 to 7 W., partly unsurveyed.

Tps. 44 N., Rs. 1 to 6 W., partly unsurveyed.

Tps. 45 N., Rs. 1 to 6 W., partly unsurveyed.

Tps. 46 N., Rs. 1 to 6 W., partly unsurveyed.

Tps. 47 N., Rs. 1 to 6 W.

Tps. 48 N., Rs. 1 to 6 W.

Tps. 49 N., Rs. 1 to 6 W.

Tps. 50 N., Rs. 1 to 4 W.

Tps. 51 N., Rs. 1 to 4 W.

The proposed supplementary rules are consistent with the decision record for the TMP, approved on June 28, 2010. The TMP includes specific management actions that restrict certain activities and define allowable uses. These proposed supplementary rules would apply only to public lands administered by the BLM Gunnison Field Office. The proposed supplementary rules would restrict the possession and use of mechanized and motorized vehicles to designated travel routes which were defined in the TMP. The proposed rules would provide two exemptions from the restrictions. One exemption would allow big game hunters to use game carts—which are considered mechanized vehicles—off of designated travel routes to retrieve large game animals outside of designated wilderness and wilderness study areas. Game carts would continue to be excluded from designated wilderness and wilderness study areas. The second exemption would allow vehicles to pull off of designated travel routes up to 30 feet from the edge of a roadway and to travel within 300 feet of a designated travel route on existing routes to accommodate parking, dispersed camping, and general recreation.

The proposed supplementary rules would also restrict the possession and use of motorized vehicles in priority sage-grouse habitat from March 15 to May 15. Restrictions on general travel and off-highway vehicle use are intended to enhance public safety, protect natural and cultural resources, eliminate motorized and non-motorized impacts on sensitive species habitat, and reduce conflicts among public land users.

IV. Procedural Matters

Executive Order 12866, Regulatory Planning and Review

These proposed supplementary rules are not a significant regulatory action and are not subject to review by Office of Management and Budget under Executive Order 12866. These proposed supplementary rules would not have an effect of $100 million or more on the economy. These proposed supplementary rules would not adversely affect in a material way the economy; productivity; competition; jobs; the environment; public health or safety; or state, local, or tribal governments or communities. These proposed supplementary rules would not create a serious inconsistency or otherwise interfere with an action taken or planned by another agency. These proposed supplementary rules do not materially alter the budgetary effects of entitlements, grants, user fees, or loan programs, or the rights or obligations of their recipients; nor do they raise novel legal or policy issues. These proposed supplementary rules would not affect legal commercial activity, but merely impose limitations on certain recreational activities on certain public lands to protect natural resources and human health and safety.

Clarity of the Supplementary Rules

Executive Order 12866 requires each agency to write regulations that are simple and easy to understand. In addition to written comments requested on substantive issues pertinent to the proposed supplementary rules, the BLM invites comments on how to make these proposed supplementary rules easier to understand, including answers to questions such as the following:

(1) Are the requirements in the proposed supplementary rules clearly stated?

(2) Do the proposed supplementary rules contain technical language or jargon that interferes with their clarity?

(3) Does the format of the proposed supplementary rules (grouping and order of sections, use of headings, paragraphing, etc.) aid or reduce its clarity?

(4) Would the proposed supplementary rules be easier to understand if they were divided into more (but shorter) sections?

(5) Is the description of the proposed supplementary rules in the “Discussion of Proposed Supplementary Rules” section of this preamble helpful in understanding these proposed supplementary rules? How could this description be more helpful in making the proposed supplementary rules easier to understand?

Please send any comments you have on the clarity of the proposed supplementary rules to the address specified in the ADDRESSES section.

National Environmental Policy Act

These proposed supplementary rules implement key decisions in the TMP. During the National Environmental Policy Act (NEPA) review for the TMP, the BLM fully analyzed the substance of these proposed supplementary rules in Environmental Impact Statement (EIS) (CO-160-2008-025-EIS). The BLM signed the Decision Record for the EIS on June 28, 2010. The BLM will place the TMP EIS, Decision Record and an appropriate Determination of NEPA Adequacy (DNA) on file in the BLM Administrative Record at the address specified in the ADDRESSES section.

Regulatory Flexibility Act

Congress enacted the Regulatory Flexibility Act of 1980 (RFA), as amended, 5 U.S.C. 601-612, to ensure that Government regulations do not unnecessarily or disproportionately burden small entities. The RFA requires a regulatory flexibility analysis if a rule would have a significant economic impact, either detrimental or beneficial, on a substantial number of small entities. These proposed supplementary rules would have no effect on business entities of any size. These proposed supplementary rules would merely impose reasonable restrictions on certain recreational activities on certain public lands to protect natural resources and the environment and human health and safety. Therefore, the BLM has determined under the RFA that these proposed supplementary rules would not have a significant economic impact on a substantial number of small entities.

Small Business Regulatory Enforcement Fairness Act

These proposed supplementary rules are not a “major rule” as defined at 5 U.S.C. 804(2). These proposed supplementary rules would merely impose reasonable restrictions on certain recreational activities on certain public lands to protect natural resources and the environment and human health and safety. These proposed supplementary rules would not:

(1) Have an annual effect on the economy of $100 million or more;

(2) Cause a major increase in costs or prices for consumers, individual industries, Federal, state, or local agencies, or geographic regions; or

(3) Have significant adverse effects on competition, employment, investment, productivity, innovation, or on the ability of United States-based enterprises to compete with foreign-based enterprises in domestic and export markets.

Unfunded Mandates Reform Act

These proposed supplementary rules would not impose an unfunded mandate on state, local, or tribal governments, or the private sector of more than $100 million per year; nor would these proposed supplementary rules have a significant or unique effect on state, local, or tribal governments or the private sector. The proposed supplementary rules would merely impose reasonable restrictions on certain recreational activities on certain public lands to protect natural resources and the environment and human health and safety. Therefore, the BLM is not required to prepare a statement containing the information required by the Unfunded Mandates Reform Act (2 U.S.C. 1531 et seq.).

Executive Order 12630, Governmental Actions and Interference With Constitutionally Protected Property Rights (Takings)

These proposed supplementary rules do not constitute a Government action capable of interfering with constitutionally protected property rights. The proposed supplementary rules would not address property rights in any form, and would not cause the impairment of constitutionally protected property rights. Therefore, the BLM has determined that these proposed supplementary rules would not cause a “taking” of private property or require further discussion of takings implications under this Executive Order.

Executive Order 13132, Federalism

The proposed supplementary rules would not have a substantial direct effect on the states, on the relationship between the national government and the states, or on the distribution of power and responsibilities among the various levels of government. Therefore, in accordance with Executive Order 13132, the BLM has determined that these proposed supplementary rules do not have sufficient Federalism implications to warrant preparation of a Federalism Assessment.

Executive Order 12988, Civil Justice Reform

Under Executive Order 12988, the BLM Colorado State Director has determined that these proposed supplementary rules would not unduly burden the judicial system and that they meet the requirements of Sections 3(a) and 3(b) (2) of the Order.

Executive Order 13175, Consultation and Coordination With Indian Tribal Governments

In accordance with Executive Order 13175, the BLM has found that these proposed rules do not include policies that have tribal implications, and would have no bearing on trust lands or on lands for which title is held in fee status by Indian tribes or U.S. Government-owned lands managed by the Bureau of Indian Affairs.

Information Quality Act

In developing these proposed supplementary rules, the BLM did not conduct or use a study, experiment or survey requiring peer review under the Information Quality Act (Section 515 of Pub. L. 106-554).

Executive Order 13211, Actions Concerning Regulations That Significantly Affect Energy Supply, Distribution, or Use

These proposed supplementary rules do not comprise a significant energy action. These proposed supplementary rules would not have an adverse effect on energy supply, production, or consumption and have no connection with energy policy.

Executive Order 13352, Facilitation of Cooperative Conservation

In accordance with Executive Order 13352, the BLM has determined that the proposed supplementary rules would not impede facilitating cooperative conservation; would take appropriate account of and consider the interests of persons with ownership or other legally recognized interests in land or other natural resources; would properly accommodate local participation in the Federal decision-making process; and would provide that the programs, projects, and activities are consistent with protecting public health and safety.

Paperwork Reduction Act

These proposed supplementary rules do not contain information collection requirements that the Office of Management and Budget must approve under the Paperwork Reduction Act of 1995, 44 U.S.C. 3501-3521.

Author

The principal author of these proposed supplementary rules is Kristi Murphy, Outdoor Recreation Planner, BLM, Gunnison Field Office.

V. Proposed Rules

For the reasons stated in the Preamble, and under the authority of 43 U.S.C. 315a, 1733(a), and 1740, and 43 CFR 8365.1-6, the State Director proposes supplementary rules for public lands within the Gunnison Field Office, Colorado, to read as follows:

Supplementary Rules for the Gunnison Basin Travel Management Plan Area

Definitions

Camping means erecting a tent or a shelter of natural or synthetic materials, preparing a sleeping bag or other bedding material for use, or parking a motor vehicle, motor home, or trailer for the purpose or apparent purpose of overnight occupancy.

Designated travel routes means roads and trails open to specified modes of travel and identified on a map of designated roads and trails that is maintained and available for public inspection at the Bureau of Land Management (BLM) Gunnison Field Office, Colorado. Designated roads and trails are open to public use in accordance with such limits and restrictions as are, or may be, specified in the resource management plan (RMP) or travel management plan (TMP), or in future decisions implementing the RMP. This definition excludes any road or trail with BLM-authorized restrictions that prevent use of the road or trail. Restrictions may include signs or physical barriers such as gates, fences, posts, branches, or rocks.

Existing travel routes means immediately recognizable motor vehicle travel routes or two-track trails that are not identified as closed to motorized vehicle use by a BLM sign or map.

Public land means any land or interest in land owned by the United States and administered by the Secretary of the Interior through the BLM without regard to how the United States acquired ownership.

Mechanized vehicle means a human-powered mechanical device, such as a bicycle; not powered by a motor.

Motorized vehicle means a vehicle that is propelled by a motor or engine, such as a car, truck, off-highway vehicle, motorcycle, or snowmobile.

Prohibited Acts

1. Except as provided by Rule 2 below, you must not operate or possess a motorized or mechanized vehicle in an area designated as closed to such use by a BLM sign or map.

2. You must not operate or possess a mechanized or motorized vehicle except in areas designated or routes identified for such use by a BLM sign or map, unless:

• You are using a mechanized game cart for the purpose of retrieving a large game animal outside of Congressionally designated wilderness areas or wilderness study areas; or

• You are using a motorized vehicle for the purpose of parking or camping within 30 feet of the edge of a designated travel route or on existing travel routes within 300 feet of a designated travel route.

3. You must not operate or possess a motorized vehicle from March 15 to May 15 in specific areas of priority sage-grouse habitat as designated by a BLM sign or map, except to access private inholdings with proper authorization.

Exceptions

These supplementary rules do not apply to emergency, law enforcement, and Federal or other government vehicles while being used for official or other emergency purposes, or to any other vehicle use that is expressly authorized or otherwise officially approved by the BLM.

Penalties

Under Section 303(a) of the Federal Land Policy and Management Act of 1976 (43 U.S.C. 1733(a) and 43 CFR 8360.0-7), any person who violates any of these supplementary rules may be tried before a United States Magistrate and fined no more than $1,000 or imprisoned for no more than 12 months, or both. Such violations may also be subject to the enhanced fines provided for by 18 U.S.C. 3571.

Helen M. Hankins,
Bureau of Land Management, Colorado State Director.

[FR Doc. 2013-10896 Filed 5-7-13; 8:45 am]

BILLING CODE 4310-JB-P